DEPARTMENT OF TRANSPORTATION

Federal Aviation Administration

14 CFR Part 71

[Airspace Docket No. 00-ASW-6]

RIN 2120-AA66

Amendment of Legal Description of V-66 in the Vicinity of Dallas/Fort Worth; TX

AGENCY: Federal Aviation Administration (FAA), DOT.

ACTION: Final rule; correction.

SUMMARY: This action corrects a final rule published in the Federal Register on October 16, 2000. In the legal description of V-66, a portion of the airway from Tuscaloosa, AL, to Franklin, VA, was inadvertently deleted. This action corrects that error.

EFFECTIVE DATE: December 27, 2000.

FOR FURTHER INFORMATION CONTACT: Brenda Brown, Airspace and Rules Division, ATA-400, Office of Air Traffic Airspace Management, Federal Aviation Administration, 800 Independence Avenue, SW., Washington, DC 20591; telephone: (202) 267-8783.

SUPPLEMENTARY INFORMATION: On October 16, 2000, Airspace Docket No. 00-ASW-6, FR Doc. 00-26512, was published revising thirteen Federal airways in the vicinity of Dallas/Fort Worth, TX. In the legal description of V-66, a portion of the airway from Tuscaloosa, AL, to Franklin, VA, was inadvertently deleted. The FAA corrects this action by adding that portion of the legal description that was deleted.

Correction to Final Rule

Accordingly, pursuant to the authority delegated to me, the legal description for V-66 as published in the Federal Register on October 16, 2000 (65 FR 61088); FR Doc. 00-26512, and incorporated by reference in 14 CFR 71.1, is corrected as follows:

§ 71.1 [Corrected]

On page 61088 in the third column, correct the legal description of V-66 to read as follows:

Paragraph 6010(a)—Domestic VOR Federal Airways

* * * * *

V-66 [Corrected]

From Mission Bay, CA; Imperial, CA; 13 miles, 24 miles, 25 MSL; Bard, AZ; 12 miles, 35 MSL; INT Bard 089° and Gila Bend, AZ, 261° radials; 46 miles, 35 MSL; Gila Bend; Tucson, AZ, 7 miles wide (3 miles south and 4 miles north of centerline); Douglas, AZ; INT Douglas 064° and Columbus, NM, 277° radials; Columbus; El Paso, TX; 6 miles wide; INT El Paso 109° and Hudspeth 287° radials; 6 miles wide; Hudspeth; Pecos, TX; Midland, TX; INT Midland 083° and Abilene, TX, 252° radials; Abilene; to Millsap, TX. From Tuscaloosa, AL, Brookwood, AL; LaGrange, GA; INT LaGrange 120° and Columbus, GA, 068° radials; INT Columbus 068° and Athens, GA, 195° radials; Athens; Greenwood, SC; Sandhills, NC; Raleigh-Durham, NC; Franklin, VA, excluding the airspace above 13,000 feet MSL from the INT of Tucson, AZ, 122° and Cochise, AZ, 257° radials to the INT of Douglas, AZ, 064° and Columbus, NM, 277° radials.

* * * * *

Issued in Washington, DC, on December 18, 2000.
Reginald C. Matthews,
Manager, Airspace and Rules Division.

[FR Doc. 00-32881 Filed 12-26-00; 8:45 am]

BILLING CODE 4910-13-P